DEPARTMENT OF HOUSING AND URBAN DEVELOPMENT

[Docket No. FR-5482-N-04]

Notice of Submission of Proposed Information Collection to OMB; Limited English Proficiency Initiative (LEPI) Program Grant Application

AGENCY: Office of the Assistant Secretary for Fair Housing and Equal Opportunity, HUD.

ACTION: Notice of proposed information collection.

SUMMARY: The proposed information collection requirement described below will be submitted to the Office of Management and Budget (OMB) for review and approval, as required by the Paperwork Reduction Act of 1995. The Department is soliciting public comments on the subject proposal.

DATES: Comments Due Date: December 23, 2011.

ADDRESSES: Interested persons are invited to submit comments regarding this proposal. Comments must be received within 60 days from the date of this Notice. Comments should refer to the proposal by name and/or OMB Control Number, and should be sent to: HUD Desk Officer, Office of Management and Regulatory Affairs, Office of Management and Budget, New Executive Office Building, Washington, DC 20503, e-mail OIRA_Submission@OMB.EOP.GOV.

FOR FURTHER INFORMATION CONTACT: Pamela Walsh, Director, Office of Policy, Legislative Initiatives, and Outreach, Office of Fair Housing and Equal Opportunity, e-mail to Pamela.D.Walsh@HUD.gov; telephone number (202) 708-1145 (this is not a toll-free number). Persons with hearing and speech challenges may access the above numbers via TTY (text telephone) by calling the Federal Relay Service at 800-877-8339 (this is a toll-free number).

SUPPLEMENTARY INFORMATION: The Department is submitting this proposed information collection requirement to OMB for processing, as described below.

This notice is soliciting comments from members of the public and affected agencies concerning the proposed information collection in order to: (1) Evaluate whether the proposed information collection is necessary for the proper performance of the functions of the agency, including whether the information will have practical utility; (2) Evaluate the accuracy of the agency's estimate of the proposed collection of information; (3) Enhance the quality, utility and clarity of the information which must be collected; and (4) Minimize the burden of the information collection on those who are to respond, including the use of appropriate automated collection techniques or other forms of information technology, e.g., electronic transmission of data.

Title of Proposal: Limited English Proficiency Initiative Program Reporting.

OMB Control Number, if applicable: 2529-0051.

Description of Information Collection: The proposed information collection is intended to enhance the dissemination of LEP materials, and the delivery of workshops and training sessions concerning HUD programs and services to LEP populations. LEPI grant recipients must submit quarterly reports to HUD containing information required by the LEPI program NOFA and the General Section. As part of the required report to HUD, award recipients must include a completed Logic Model (HUD96010).

Agency form number(s), if applicable: HUD forms have been identified in the Department's General Section.

Members of affected public: Qualified non-profit or faith-based community organizations that have engaged in providing LEP services to diverse populations and communities.

Estimation of the total numbers of hours needed to prepare the information collection including the number of respondents, frequency of response, and hours of response: On an annual basis approximately 30 respondents (applicants) will submit one (1) application to HUD with a burden hour per response of 70 hrs. It is estimated that 2 hrs for the quarterly reporting period will be required of the recipients to fulfill HUD reporting requirements, for a total of 2,132 burden hours.

Status of the proposed Information Collection: Extension of a currently approved collection.

Authority: The Paperwork Reduction Act of 1995, 44 U.S.C. Chapter 35, as amended.

Dated: October 18, 2011.
Pamela D. Walsh,
Director, Office of Policy, Legislative Initiatives, and Outreach, Fair Housing and Equal Opportunity.

[FR Doc. 2011-27448 Filed 10-21-11; 8:45 am]

BILLING CODE 4210-67-P